SMALL BUSINESS ADMINISTRATION

[Disaster Declaration #20498 and #20499; Illinois Disaster Number IL-20007]

Presidential Declaration Amendment of a Major Disaster for the State of Illinois

AGENCY: U.S. Small Business Administration.

ACTION: Amendment 1.

SUMMARY: This is an amendment of the Presidential declaration of a major disaster for the State of Illinois (FEMA-4819-DR), dated September 20, 2024.

Incident: Severe Storms, Tornadoes, Straight-line Winds, and Flooding.

DATES: Issued on November 20, 2024.

Incident Period: July 13, 2024 through July 16, 2024.

Physical Loan Application Deadline Date: December 13, 2024.

Economic Injury (EIDL) Loan Application Deadline Date: June 20, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Illinois, dated September 20, 2024, is hereby amended to extend the deadline for filing applications for physical damages as a result of this disaster to December 13, 2024.

All other information in the original declaration remains unchanged.

(Catalog of Federal Domestic Assistance Number 59008)

Alejandro Contreras,
Acting Deputy Associate Administrator, Office of Disaster Recovery & Resilience.

[FR Doc. 2024-27633 Filed 11-25-24; 8:45 am]

BILLING CODE 8026-09-P